DEPARTMENT OF COMMERCE

National Oceanic and Atmospheric Administration

[I.D. 042401F]

North Pacific Fishery Management Council; Public Meetings

AGENCY: National Marine Fisheries Service (NMFS), National Oceanic and Atmospheric Administration (NOAA), Commerce.

ACTION: Notice of committee meetings.

SUMMARY: Two committees of the North Pacific Fishery Management Council (Council) will meet in Anchorage, AK.

DATES: The meetings will be held on May 15-16 and May 24-25, 2001.

ADDRESSES: The meetings will be held at the Anchorage Hilton Hotel, 500 W. Third Avenue, Anchorage, AK.

Council address: North Pacific Fishery Management Council, 605 W. 4th Ave., Suite 306, Anchorage, AK 99501-2252.

FOR FURTHER INFORMATION CONTACT: Council staff; 907-271-2809.

SUPPLEMENTARY INFORMATION: The Council’s Gulf of Alaska Groundfish Rationalization Committee will meet beginning at 10 a.m. on Tuesday, May 15, in the Chart room at the Anchorage Hilton Hotel, and continue through Wednesday, May 16. The Committee will continue working toward rationalization programs for the Gulf of Alaska groundfish fisheries.

The Council's Community Development Quota (CDQ) Policy Committee will meet in the Iliamna Room at the Anchorage Hilton Hotel, beginning at 8:30 a.m. on Thursday May 24, and conclude Friday afternoon, May 25, 2001. The Committee will continue to address issues related to the Community Development Quota oversight responsibilities of the State of Alaska and NMFS in order to provide policy recommendations to the Council.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to Helen Allen, 907-271-2809, at least 5 working days prior to the meeting date.

Dated: April 25, 2001.
Richard W. Surdi,
Acting Director, Office of Sustainable Fisheries, National Marine Fisheries Service.

[FR Doc. 01-10786 Filed 4-30-01; 8:45 am]

BILLING CODE 3510-22-S